DEPARTMENT OF TRANSPORTATION

Federal Highway Administration

Environmental Impact Statement; Morrison County, Minnesota

AGENCY: Federal Highway Administration (FHWA), DOT.

ACTION: Revised notice of intent.

SUMMARY: The FHWA is issuing this revised notice to advise the public that the southern terminus for the environmental impact statement (EIS) being prepared for the proposed reconstruction of Trunk Highway (TH) 371 in Morrison County, Minnesota, has been revised.

FOR FURTHER INFORMATION CONTACT: Cheryl Martin, Federal Highway Administration, Galtier Plaza, 380 Jackson Street, Suite 500, St. Paul, Minnesota 55101, Telephone (651) 291-6120; or Roger Risser, Project Manager, Minnesota Department of Transportation—District 3, 1991 Industrial Park Road, Baxter, Minnesota 56425, Telephone (218) 828-2482, V (651) 296-9930 TTY.

SUPPLEMENTARY INFORMATION: As indicated in the Notice of Intent published in the Federal Register on September 22, 1999, the FHWA, in cooperation with the Minnesota Department of Transportation (MnDOT), is preparing an EIS on a proposal to reconstruct and expand TH 371 from a two-lane roadway to a four-lane facility. The notice identified the southerly terminus of the project as County State Aid Highway (CSAH) 46 north of Little Falls. The correct southerly terminus is TH 10, approximately 3.2 kilometers (2.0 miles) south of CSAH 46. Therefore, the EIS will consider alternatives to improve TH 371 from TH 10 to 0.8 kilometer (0.5 mile) north of CSAH 48 in Morrison County, Minnesota, approximately 12.9 kilometers (8.0 miles).

Coordination has been initiated and will continue with appropriate Federal, State and local agencies, and private organizations and citizens who have previously expressed or are known to have an interest in the proposed action. Public meetings have been held in the past and will continue to be held, with public notice given for the time and place of the meetings.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: December 26, 2001.
Stanley M. Graczyk,
Project Development Engineer, Federal Highway Administration.

[FR Doc. 02-2562 Filed 2-1-02; 8:45 am]

BILLING CODE 4910-22-M